DEPARTMENT OF TRANSPORTATION

Federal Aviation Administration

14 CFR Parts 21, 23, 25, 29, 33, 36, 47, 49, 60, 61, 67, 73, 91, 97, 101, 107, 121, 125, 129, 135, 141, 183, and 440

[Docket No. FAA-2022-1355; Amdt. Nos. 25-148, 33-35, 47-34, 73-9, 101-11]

RIN 2120-AL53

Miscellaneous Amendments; Correction

AGENCY: Federal Aviation Administration (FAA), U.S. Department of Transportation (DOT).

ACTION: Final rule; correction.

SUMMARY: On December 9, 2022, the FAA published a final rule titled “Miscellaneous Amendments”. That document made technical amendments to various parts of the FAA's regulations, and inadvertently identified the Amendment Nos. for certain parts of the CFR as 25-146, 33-1, 47-32, 73-1, and 101-9. The correct Amendment Nos. are 25-148, 33-35, 47-34, 73-9, and 101-11. This document makes those corrections.

DATES: Effective January 18, 2023.

FOR FURTHER INFORMATION CONTACT: Jesse Holston, Office of Rulemaking, ARM-200, Federal Aviation Administration, 800 Independence Ave. SW, Washington, DC 20591; telephone (202) 267-0810; email jesse.c.holston@faa.gov.

SUPPLEMENTARY INFORMATION:

Electronic Access and Filing

A copy of the Miscellaneous Amendments final rule may be viewed online at https://www.regulations.gov using the docket number listed above. A copy of this correction will be placed in the same docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this correction, including economic analyses and technical reports, may be accessed in the electronic docket for this rulemaking.

Background

On December 9, 2022, the Miscellaneous Amendments final rule (RIN 2120-AL53) published in the Federal Register at 87 FR 75704. After publication, the FAA discovered that it inadvertently identified the Amendment Nos. for parts 25, 33, 47, 73, and 101 as 25-146, 33-1, 47-32, 73-1, and 101-9. The correct Amendment Nos. are 25-148, 33-35, 47-34, 73-9, and 101-11. This document makes those corrections.

Correction

In FR Doc. 2022-23327, beginning on page 75704, in the Federal Register of December 9, 2022, make the following correction in the header of the document. On page 75704, in the first column, in the header of the document, the listing of docket number and amendment nos. is corrected to read as follows:

[Docket No. FAA-2022-1355; Amdt. Nos. 21-106, 23-65, 25-148, 29-58, 33-35, 36-32, 47-34, 49-11, 60-7, 61-151, 67-22, 73-9, 91-366, 97-1339, 101-11, 107-10, 121-387, 125-72, 129-54, 135-143, 141-24, 183-18, 440-6]

Issued under authority provided by 49 U.S.C. 106(f), 44701(a), and 44703 in Washington, DC, on 3 January, 2023.
Brandon Roberts,
Executive Director, Office of Rulemaking.

[FR Doc. 2023-00139 Filed 1-17-23; 8:45 am]

BILLING CODE 4910-13-P